DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcement GH15-001, Conducting Public Health Research in Kenya, initial review.

SUMMARY: This document corrects a notice that was published in the Federal Register on March 12, 2015 (Volume 80, Number 48, Page 13008. The time and date should read as follows:

Time and Date: 8:30 a.m.-12:00 p.m., Panel 1; and 1:30 p.m.-5:30 p.m., Panel 2, April 1, 2015 (Closed).

FOR FURTHER INFORMATION CONTACT: Hylan Shoob, Scientific Review Officer, Center for Global Health (CGH) Science Office, CGH, CDC, 1600 Clifton Road NE., Mailstop D-69, Atlanta, Georgia 30033, Telephone: (404) 639-4796.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-06647 Filed 3-23-15; 8:45 am]

BILLING CODE 4163-18-P